DEPARTMENT OF EDUCATION

Federal Need Analysis Methodology for the 2016-17 Award Year—Federal Pell Grant, Federal Perkins Loan, Federal Work-Study, Federal Supplemental Educational Opportunity Grant, William D. Ford Federal Direct Loan, Iraq and Afghanistan Service Grant and TEACH Grant Programs; Correction

AGENCY: Federal Student Aid, Department of Education.

ACTION: Notice; correction.

Catalog of Federal Domestic Assistance (CFDA) Numbers: 84.063; 84.038; 84.033; 84.007; 84.268; 84.408; 84.379.

SUMMARY: On May 27, 2015, we published in the Federal Register a notice announcing the annual updates to the tables used in the statutory Federal Need Analysis Methodology that determines a student's expected family contribution for award year 2016-17. Section 478 of the Higher Education Act of 1965, as amended, requires the Secretary to annually update four tables for price inflation. This notice corrects the Education Savings and Asset Protection Allowance tables.

FOR FURTHER INFORMATION CONTACT: Marya Dennis, U.S. Department of Education, Room 63G2, Union Center Plaza, 830 First Street NE., Washington, DC 20202-5454. Telephone: (202) 377-3385.

If you use a telecommunications device for the deaf (TDD) or a text telephone (TTY), call the Federal Relay Service, toll free, at 1-800-877-8339.

SUPPLEMENTARY INFORMATION:

Correction

In the Federal Register of May 27, 2015 (80 FR 30217), we replace the tables included in section “3. Education Savings and Asset Protection Allowance” on pages 30218 through 30221 with the following tables. This allowance protects a portion of Net Worth (assets less debts) from being considered available for postsecondary educational expenses. There are three asset protection allowance tables: One for parents of dependent students, one for independent students with dependents other than a spouse, and one for independent students without dependents other than a spouse.

Parents of Dependent Students
If the age of the older parent is | And they are: Married | And they are: Single
| Then the education savings and asset protection allowance is—
25 or less | 0 | 0
26 | 1,000 | 500
27 | 2,100 | 1,100
28 | 3,100 | 1,600
29 | 4,100 | 2,100
30 | 5,200 | 2,600
31 | 6,200 | 3,200
32 | 7,200 | 3,700
33 | 8,300 | 4,200
34 | 9,300 | 4,700
35 | 10,300 | 5,300
36 | 11,400 | 5,800
37 | 12,400 | 6,300
38 | 13,400 | 6,800
39 | 14,500 | 7,400
40 | 15,500 | 7,900
41 | 15,900 | 8,100
42 | 16,300 | 8,300
43 | 16,600 | 8,500
44 | 17,000 | 8,600
45 | 17,400 | 8,800
46 | 17,800 | 9,000
47 | 18,300 | 9,200
48 | 18,700 | 9,400
49 | 19,200 | 9,700
50 | 19,700 | 9,900
51 | 20,200 | 10,100
52 | 20,700 | 10,400
53 | 21,300 | 10,600
54 | 21,800 | 10,900
55 | 22,400 | 11,100
56 | 23,000 | 11,400
57 | 23,700 | 11,700
58 | 24,300 | 12,000
59 | 25,000 | 12,300
60 | 25,700 | 12,600
61 | 26,400 | 12,900
62 | 27,200 | 13,200
63 | 27,900 | 13,600
64 | 28,800 | 13,900
65 or older | 29,600 | 14,300

Independent Students With Dependents Other Than a Spouse
If the age of the student is | And they are: Married | And they are: Single
| Then the education savings and asset protection allowance is—
25 or less | 0 | 0
26 | 1,000 | 500
27 | 2,100 | 1,100
28 | 3,100 | 1,600
29 | 4,100 | 2,100
30 | 5,200 | 2,600
31 | 6,200 | 3,200
32 | 7,200 | 3,700
33 | 8,300 | 4,200
34 | 9,300 | 4,700
35 | 10,300 | 5,300
36 | 11,400 | 5,800
37 | 12,400 | 6,300
38 | 13,400 | 6,800
39 | 14,500 | 7,400
40 | 15,500 | 7,900
41 | 15,900 | 8,100
42 | 16,300 | 8,300
43 | 16,600 | 8,500
44 | 17,000 | 8,600
45 | 17,400 | 8,800
46 | 17,800 | 9,000
47 | 18,300 | 9,200
48 | 18,700 | 9,400
49 | 19,200 | 9,700
50 | 19,700 | 9,900
51 | 20,200 | 10,100
52 | 20,700 | 10,400
53 | 21,300 | 10,600
54 | 21,800 | 10,900
55 | 22,400 | 11,100
56 | 23,000 | 11,400
57 | 23,700 | 11,700
58 | 24,300 | 12,000
59 | 25,000 | 12,300
60 | 25,700 | 12,600
61 | 26,400 | 12,900
62 | 27,200 | 13,200
63 | 27,900 | 13,600
64 | 28,800 | 13,900
65 or older | 29,600 | 14,300

Independent Students Without Dependents Other Than a Spouse
If the age of the student is | And they are: Married | And they are: Single
| Then the education savings and asset protection allowance is—
25 or less | 0 | 0
26 | 1,000 | 500
27 | 2,100 | 1,100
28 | 3,100 | 1,600
29 | 4,100 | 2,100
30 | 5,200 | 2,600
31 | 6,200 | 3,200
32 | 7,200 | 3,700
33 | 8,300 | 4,200
34 | 9,300 | 4,700
35 | 10,300 | 5,300
36 | 11,400 | 5,800
37 | 12,400 | 6,300
38 | 13,400 | 6,800
39 | 14,500 | 7,400
40 | 15,500 | 7,900
41 | 15,900 | 8,100
42 | 16,300 | 8,300
43 | 16,600 | 8,500
44 | 17,000 | 8,600
45 | 17,400 | 8,800
46 | 17,800 | 9,000
47 | 18,300 | 9,200
48 | 18,700 | 9,400
49 | 19,200 | 9,700
50 | 19,700 | 9,900
51 | 20,200 | 10,100
52 | 20,700 | 10,400
53 | 21,300 | 10,600
54 | 21,800 | 10,900
55 | 22,400 | 11,100
56 | 23,000 | 11,400
57 | 23,700 | 11,700
58 | 24,300 | 12,000
59 | 25,000 | 12,300
60 | 25,700 | 12,600
61 | 26,400 | 12,900
62 | 27,200 | 13,200
63 | 27,900 | 13,600
64 | 28,800 | 13,900
65 or older | 29,600 | 14,300

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov.

Specifically, through the advanced search feature at this site, you can limit your search to documents published by the Department.

Program Authority: 20 U.S.C. 1087rr.

Dated: July 28, 2015.
James W. Runcie,
Chief Operating Officer Federal Student Aid.

[FR Doc. 2015-18991 Filed 7-31-15; 8:45 am]

BILLING CODE 4000-01-P